DEPARTMENT OF HEALTH AND HUMAN SERVICES

Centers for Disease Control and Prevention

[60 Day-17-1053; Docket No. CDC-2017-0079]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collections, as required by the Paperwork Reduction Act of 1995. This notice invites comment on Monitoring and Reporting System for the Division of Community Health's Cooperative Agreement Programs. CDC seeks to continue the collection of information from awardees funded through the Racial and Ethnic Approaches to Community health (REACH) cooperative agreement to provide semi-annual reports to CDC describing their work plan, activities and progress toward achieving objectives during the fourth year of funding.

DATES: Written comments must be received on or before November 27, 2017.

ADDRESSES: You may submit comments, identified by Docket No. CDC-2017-0079 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Monitoring and Reporting System for the Division of Community Health's Cooperative Agreement Programs (OMB Control Number 0920-1053, Expiration 03/31/2018)—Revision—National Center for Chronic Disease Prevention and Health Promotion (NCCDPHP), Centers for Disease Control and Prevention (CDC).

Background and Brief Description

The Centers for Disease Control and Prevention (CDC) established the Division of Community Health (DCH) to support multi-sectorial, community-based programs that promote healthy living. In 2014, DCH announced a new cooperative agreement program, Racial and Ethnic Approaches to Community Health (REACH) program, authorized by the Public Health Service Act and the Prevention and Public Health Fund of the Affordable Care Act (Funding Opportunity Announcement (FOA) FOA DP14-1419PPHF14). CDC designed the REACH program to address chronic diseases and risk factors for chronic diseases, including physical inactivity, poor diet, obesity, and tobacco use. The program will provide support for implementation of broad, evidence- and practice-based policy and environmental improvements in large and small cities, urban rural areas, tribes, multi-sectorial community coalitions, and racial and ethnic communities experiencing chronic disease disparities. The REACH program aligns with the National Prevention Strategy and “Healthy People 2020” focus areas.

CDC's Division of Community Health (DCH) and Division of Nutrition, Physical Activity and Obesity (DNPAO) receive semi-annual progress reports from REACH awardees through an electronic management information system, the DCH-Performance Monitoring Database (DCH-PMD), (in the original OMB request the DCH-DMD was also referred to as the DCH-Performance Monitoring and Reporting System). This system collects information from awardees funded through the Racial and Ethnic Approaches to Community Health (REACH) cooperative agreement. REACH awardees include 18 state, local and tribal governmental agencies, and 31 non-governmental organizations.

CDC DNPAO is proposing a revision to the information collection request, effective immediately, to request additional time to facilitate awardees reporting critical information in a consistent manner. Specifically, CDC DNPAO requests to extend the current OMB approval period to collect information needed to monitor the REACH cooperative agreement program for an additional year ending in March 31, 2019. This will allow REACH awardees to continue to provide semi-annual reports to CDC describing their work plan, activities and progress toward achieving objectives during a fourth year of supplemental funding.

Information collection will continue to be conducted primarily via DCH-PMD, which enables the accurate, reliable, uniform and timely submission to CDC of each awardee's work plans and progress reports, including objectives and milestones. The DCH-PMD will also generate a variety of routine and customizable reports. Local level reports will allow each awardee to summarize its activities and progress towards meeting work plan objectives. CDC will use the information collected in the DCH-PMD to monitor each awardee's progress and to identify its strengths and weaknesses. Monitoring allows CDC to determine whether an awardee is meeting performance goals and to make adjustments in the type and level of technical assistance provided to them to support attainment of their objectives. CDC's monitoring and evaluation activities allow CDC to provide oversight of the use of federal funds, and to identify and disseminate information about successful prevention and control strategies implemented by awardees. Finally, the information collection will allow CDC to monitor the increased emphasis on partnerships and programmatic collaboration. CDC expects to reduce duplication of effort, enhance program impact and maximize the use of federal funds. The estimated time burden of producing each semi-annual report is 3 hours.

Due to substantial interest in the REACH program from a variety of stakeholders, CDC may also seek OMB approval to conduct targeted, special-purpose information collections on an as-needed basis. CDC will ask each REACH awardee to participate in one special purpose information collection. Methods for these data collections could include telephone interviews, in-person interviews, Web-based surveys, or paper-and-pencil surveys. CDC will submit each special-purpose information collection request to OMB for approval through the Change Request mechanism, and will include the data collection instrument(s) and a description of purpose and methods.

CDC seeks a one-year OMB approval, starting on April 1, 2018. Participation in semi-annual progress reporting is required for cooperative agreement awardees, but could be voluntary for some special-purpose data collections. There are no costs to respondents other than their time.

Estimated Annualized Burden Hours
Type of respondents | Form name | Number of respondents | Number of responses per respondent | Avg. burden per response (in hours) | Total burden (in hours)
DCH Program Awardees (state, local and tribal government sector) | DCH MIS: Semi-annual reporting | 18 | 2 | 3 | 108
| Special Data Request | 18 | 1 | 6 | 108
DCH Program Awardees (private sector) | DCH MIS: Semi-annual reporting | 31 | 2 | 3 | 186
| Special Data Request | 31 | 1 | 6 | 186
Total |  |  |  |  | 588

Leroy A. Richardson,
Chief, Information Collection Review Office, Office of Scientific Integrity, Office of the Associate Director for Science, Office of the Director, Centers for Disease Control and Prevention.

[FR Doc. 2017-20510 Filed 9-25-17; 8:45 am]

BILLING CODE 4163-18-P